DEPARTMENT OF TRANSPORTATION

Federal Aviation Administration

Advisory Circular: Advisory Circular (AC) 23.143-1, Ice Contaminated Tailplane Stall

AGENCY: Federal Aviation Administration (FAA), DOT.

ACTION: Notice of availability of proposed advisory circular (AC) and request for comments.

SUMMARY: This notice announces the availability of and request for comments on a proposed AC, which provides information and guidance concerning ice contaminated tailplane stall.

DATES: Comments must be received on or before September 18, 2000.

ADDRESSES: Send all comments on the proposed AC to: Preferred e-mail address: <bill.marshall@faa.gov> or Federal Aviation Administration, Attention: Mr. Bill Marshall, Small Airplane Directorate, Aircraft Certification Service, Standards Office (ACE-110), DOT Building, 901 Locust, Room 301, Kansas City, Missouri 64106.

FOR FURTHER INFORMATION CONTACT: Mr. Bill Marshall, <bill.marshall@faa.gov>, Standards Office (ACE-110), Small Airplane Directorate, Aircraft Certification Service, Federal Aviation Administration; telephone number (816) 329-4124.

SUPPLEMENTARY INFORMATION: You may obtain a copy of this proposed AC by contacting the person named above under FOR FURTHER INFORMATION CONTACT.

Comments Invited: We invite you to submit comments on the proposed AC. You must identify AC 23.143-1 and submit comments to the (e-mail preferred) address specified above. The FAA will consider all communications received on or before the closing date for comments before issuing the final AC. You may inspect the proposed AC and comments received at the Standards Office (ACE-110), Room 301, DOT Building, 901 Locust, Kansas City, Missouri, between the hours of 7:30 a.m. and 4:00 p.m. weekdays, except Federal holidays.

Background

This proposed advisory circular (AC) sets forth an acceptable way, but not the only way, of demonstrating compliance with the pitch axis flight characteristics with ice contamination requirements in Title 14 of the Code of Federal Regulations (14 CFR) part 23. Accordingly, the FAA is proposing and requesting comments on AC 23.143-1, which will provide more detailed and uniform guidance in showing compliance with the existing regulation.

Issued in Kansas City, Missouri on July 5, 2000.
Marvin Nuss,
Acting Manager, Small Airplane Directorate, Aircraft Certification Service.

[FR Doc. 00-18243 Filed 7-18-00; 8:45 am]

BILLING CODE 4910-13-U